DEPARTMENT OF TRANSPORTATION

Federal Aviation Administration

14 CFR Part 39

[Docket No. 2002-NM-301-AD; Amendment 39-13672; AD 2004-12-13]

RIN 2120-AA64

Airworthiness Directives; Aerospatiale Model ATR42-500 and ATR72-212A Series Airplanes

AGENCY: Federal Aviation Administration, DOT.

ACTION: Final rule.

SUMMARY: This amendment adopts a new airworthiness directive (AD), applicable to certain Aerospatiale Model ATR42-500 and ATR72-212A series airplanes, that requires repetitive inspections for cracking of the upper closing rib of the vertical fin, related investigative actions, and corrective actions if necessary. This action is necessary to prevent interference between the upper closing rib and the rudder, which could result in a rudder jam and consequent reduced controllability of the airplane. This action is intended to address the identified unsafe condition.

DATES: Effective July 22, 2004.

The incorporation by reference of certain publications listed in the regulations is approved by the Director of the Federal Register as of July 22, 2004.

ADDRESSES: The service information referenced in this AD may be obtained from Aerospatiale, 316 Route de Bayonne, 31060 Toulouse, Cedex 03, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Aerospatiale Model ATR42-500 and ATR72-212A series airplanes was published in the Federal Register on March 17, 2004 (69 FR 12589). That action proposed to require repetitive inspections for cracking of the upper closing rib of the vertical fin, related investigative actions, and corrective actions if necessary.

Comments

Interested persons have been afforded an opportunity to participate in the making of this amendment. No comments were submitted in response to the proposal or the FAA's determination of the cost to the public.

Conclusion

We have determined that air safety and the public interest require the adoption of the rule as proposed.

Cost Impact

We estimate that 2 Model ATR42-500 series airplanes of U.S. registry will be affected by this AD, that it will take approximately 2 work hours per airplane to accomplish the required actions, and that the average labor rate is $65 per work hour. Based on these figures, the cost impact of this AD on U.S. operators is estimated to be $260, or $130 per airplane.

Currently, there are no affected Model ATR72-212A series airplanes on the U.S. Register. However, if an affected airplane is imported and placed on the U.S. Register in the future, it will be subject to the same per-airplane cost specified above for the Model ATR42-500 series airplanes.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-12-13 Aerospatiale: Amendment 39-13672. Docket 2002-NM-301-AD.

Applicability: Model ATR42-500 and ATR72-212A series airplanes; certificated in any category; on which Aerospatiale Modification 4440 has been accomplished; except those Model ATR42-500 series airplanes having serial numbers (S/Ns) 618 and subsequent; and except those Model ATR72-212A series airplanes having S/Ns 682, 683, 684, 687, and 694 and subsequent.

Compliance: Required as indicated, unless accomplished previously.

To prevent interference between the upper closing rib and the rudder, which could result in a rudder jam and consequent reduced controllability of the airplane, accomplish the following:

Service Bulletin References

(a) The term “service bulletin,” as used in this AD, means the Accomplishment Instructions of Avions de Transport Regional Service Bulletin ATR42-55-0011, excluding the Accomplishment Report, dated September 26, 2002 (for Model ATR42-500 series airplanes); and Avions de Transport Regional Service Bulletin ATR72-55-1003, Revision 1, excluding the Accomplishment Report, dated November 13, 2002 (for Model ATR72-212A series airplanes); as applicable.

(1) For Model ATR72-212A series airplanes: Actions accomplished before the effective date of this AD per Avions de Transport Regional Service Bulletin ATR72-55-1003, dated October 11, 2002, are acceptable for compliance with the corresponding actions required by this AD.

(2) Where the service bulletins specify to report inspection results to the manufacturer, this AD does not require such reporting.

Repetitive Inspections

(b) Within 500 flight hours after the effective date of this AD: Perform a detailed inspection for cracking of the upper closing rib of the vertical fin, per the Accomplishment Instructions of the applicable service bulletin. Repeat this inspection thereafter at intervals not to exceed 500 flight hours.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: There is no terminating action available at this time for the repetitive inspections required by paragraph (b) of this AD.

One-Time Follow-On Inspections

(c) Before further flight following the initial detailed inspection for cracking required by paragraph (b) of this AD, measure the planarity of the upper closing rib and measure the gap between the rudder horn and the upper closing rib of the vertical fin; per paragraphs 2.C.(2) and 2.C.(3) of the Accomplishment Instructions of the applicable service bulletin.

Repair

(d) If any crack is found during any inspection required by paragraph (b) of this AD; or if any wave, anomaly, or measurement is found that is outside the limits specified in the applicable service bulletin: Before further flight, do all applicable actions in and per paragraph 2.C.(4) of the applicable service bulletin; except, where the applicable service bulletin says to contact the manufacturer for an approved repair solution, repair per a method approved by either the Manager, International Branch, ANM-116, FAA, Transport Airplane Directorate; or the Direction Générale de l'Aviation Civile (or its delegated agent).

Alternative Methods of Compliance

(e) In accordance with 14 CFR 39.19, the Manager, International Branch, ANM-116, is authorized to approve alternative methods of compliance for this AD.

Incorporation by Reference

(f) Unless otherwise specified in this AD, the actions shall be done in accordance with Avions de Transport Regional Service Bulletin ATR42-55-0011, excluding the Accomplishment Report, dated September 26, 2002; or Avions de Transport Regional Service Bulletin ATR72-55-1003, Revision 1, excluding the Accomplishment Report, dated November 13, 2002; as applicable. Avions de Transport Regional Service Bulletin ATR72-55-1003, Revision 1, dated November 13, 2002, contains the following effective pages:

Page number | Revision level shown on page | Date shown on page
1, 2, 4, 5, 13 | 1 | November 13, 2002.
3, 6-12 | Original | October 11, 2002.

This incorporation by reference was approved by the Director of the Federal Register in accordance with 5 U.S.C. 552(a) and 1 CFR part 51. Copies may be obtained from Aerospatiale, 316 Route de Bayonne, 31060 Toulouse, Cedex 03, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 3: The subject of this AD is addressed in French airworthiness directive 2002-506(B) R1, dated December 24, 2002.

Effective Date

(g) This amendment becomes effective on July 22, 2004.

Issued in Renton, Washington, on June 7, 2004.
Kalene C. Yanamura,
Acting Manager, Transport Airplane Directorate, Aircraft Certification Service.

[FR Doc. 04-13499 Filed 6-16-04; 8:45 am]

BILLING CODE 4910-13-P